SMALL BUSINESS ADMINISTRATION

Council on Underserved Communities Advisory Board: Meeting

AGENCY: U.S. Small Business Administration (SBA).

ACTION: Notice of open Federal Advisory Committee meetings.

SUMMARY: The SBA is issuing this notice to announce the location, date, time and agenda for the initial meeting of the Council on Underserved Communities (CUC) Advisory Board.

DATES: The meeting will be held on Friday, October 14, 2016, at 2:00 p.m. EST.

ADDRESSES: The meeting will be held at the U.S. Small Business Administration, in the Administrator's Large Conference Room, located at 409 3rd St. SW., Suite 7000, Washington, DC 20416.

FOR FURTHER INFORMATION CONTACT: The meeting is open to the public however advance notice of attendance is requested. Anyone wishing to be a listening participant must contact Amadi Anene by phone or email. His contact information is Amadi Anene, Senior Advisor to the Administrator, 409 Third Street SW., Washington, DC 20416, Phone, 202-205-0067 or email, amadi.anene@sba.gov.

Additionally, if you need accommodations because of a disability or require additional information, please contact Amadi Anene at the information above.

SUPPLEMENTARY INFORMATION: Pursuant to section 10(a) of the Federal Advisory Committee Act (5 U.S.C. Appendix 2), SBA announces the meeting of the Council on Underserved Communities Advisory Board. This Board provides advice and counsel to the SBA Administrator and Associate Administrator. CUC members will examine the obstacles facing small businesses in underserved communities and recommend to SBA policy and programmatic changes to help strengthen SBA's programs and services to these communities.

The purpose of this meeting is to discuss following issues pertaining to the CUC Advisory Board.:

—Provide updates on Action Items from the May 24, 2016 CUC meeting

—Determine the 2016/2017 CUC Agenda

—Discuss SBA plans to increase lending in underserved markets

Dated: September 8, 2016.
Miguel L' Heureux,
White House Liaison.

[FR Doc. 2016-22411 Filed 9-16-16; 8:45 am]

BILLING CODE P